FEDERAL RESERVE SYSTEM

Change in Bank Control Notices, Acquisition of Shares of Bank or Bank Holding Companies; Correction

This notice corrects a notice (FR Doc. E7-9649) published on page 28490 of the issue for Monday, May 21, 2007.

Under the Federal Reserve Bank of Chicago heading, the entry for Audrey G. Savage, Monticello, Iowa, is revised to read as follows:

A. Federal Reserve Bank of Chicago (Burl Thornton, Assistant Vice President) 230 South LaSalle Street, Chicago, Illinois 60690-1414:

1. Audrey G. Savage, Monticello, Iowa, indivudually and as trustee of the Audrey G. Savage Revocable Inter Vivos Trust; to acquire control of Family Merchants Bancorporation, Cedar Rapids, Iowa, and thereby indirectly acquire control of Family Merchants Bank, Cedar Rapids, Iowa.

Comments on this application must be received by June 4, 2007.

Board of Governors of the Federal Reserve System, May 21, 2007.
Jennifer J. Johnson,
Secretary of the Board.

[FR Doc. E7-10068 Filed 5-23-07; 8:45 am]

BILLING CODE 6210-01-S